DEPARTMENT OF LABOR

Employment and Training Administration

29 CFR Parts 29 and 30

[Docket No. ETA-2023-0004]

RIN 1205-AC13

National Apprenticeship System Enhancements; Withdrawal

AGENCY: Employment and Training Administration, Labor.

ACTION: Withdrawal of proposed rule and termination of rulemaking proceeding.

SUMMARY: The Department of Labor (the Department) is withdrawing its notice of proposed rulemaking (NPRM or proposed rule), which proposed to revise the Federal regulations implementing the National Apprenticeship Act of 1937 (NAA).

DATES: The Department is withdrawing the proposed rule published on January 17, 2024 (89 FR 3118), as of December 27, 2024.

ADDRESSES: The docket is available at https://www.regulations.gov—Docket No. ETA-2023-0004.

FOR FURTHER INFORMATION CONTACT: Michelle Paczynski, Administrator, Office of Policy Development and Research, U.S. Department of Labor, Employment and Training Administration, 200 Constitution Avenue NW, Room N-5641, Washington, DC 20210, Telephone: 202-693-3700 (voice) (this is not a toll-free number). For persons with a hearing or speech disability who need assistance to use the telephone system, please dial 711 to access telecommunications relay services.

SUPPLEMENTARY INFORMATION:

Background

The NAA (29 U.S.C. 50) authorizes the Secretary of the Department of Labor (the Secretary) to “formulate and promote the furtherance of labor standards necessary to safeguard the welfare of apprentices, to extend the application of such standards by encouraging the inclusion thereof in contracts of apprenticeship, to bring together employers and labor for the formulation of programs of apprenticeship, [and] to cooperate with State agencies engaged in the formulation and promotion of standards of apprenticeship.” Under this authority, the Department established the registered apprenticeship program. The Department set forth labor standards designed to facilitate these statutory directives through its implementing regulations at 29 CFR part 29. Those regulations prescribe minimum quality and content requirements with respect to a program's standards of apprenticeship and its apprenticeship agreements; establish procedures concerning the registration, cancellation, and deregistration of apprenticeship programs; and set forth a mechanism for the recognition of State Apprenticeship Agencies (SAAs) as Registration Agencies authorized to register and oversee registered apprenticeship programs in a State. A companion regulation, at 29 CFR part 30, also implements the NAA by setting forth minimum Equal Employment Opportunity in Apprenticeship requirements that registered apprenticeship programs must follow to obtain and maintain registration status.

Summary of the Notice of Proposed Rulemaking

On January 17, 2024, the Department published an NPRM titled “National Apprenticeship System Enhancements” in the Federal Register (89 FR 3118) proposing to revise the regulations for registered apprenticeship at 29 CFR parts 29 and 30 by enhancing worker protections and equity, improving the quality of registered apprenticeship programs, revising the State governance provisions, and more clearly establishing critical pipelines to registered apprenticeship programs, such as by creating registered career and technical education (CTE) apprenticeships. The NPRM invited written comments from the public concerning the proposed rulemaking through March 18, 2024.

Summary of Comments

The Department received comment submissions from 2,115 commenters, which included 9 form letters that accounted for 1,760 comments, and 333 unique comments (substantive and non-substantive). Additionally, 22 comments were duplicates or not related to the subject of this rulemaking. The commenters represented a range of stakeholders from the public, non-profit, and private sectors, and individuals, including current and former apprentices. Among other things, commenters focused on three primary areas: (1) the scope and nature of the proposed program quality enhancements and worker protections, and the impact and burdens on program sponsors and employers in making those enhancements, (2) proposed changes to the governance structure of SAAs, and (3) the proposal to create a new model of registered CTE apprenticeship.

Rationale for Withdrawal

The Department has considered the detailed feedback, analysis, proposed alternatives, and dialogue generated by the publication of the NPRM. The Department broadly notes that the breadth and diversity of stakeholders commenting, as well as the unique perspectives provided, is a testament to the strength and growth of the registered apprenticeship model overall as a solution to America's workforce needs across a wide range of industries. The Department believes that the dialogue spurred by the NPRM demonstrates a need for a robust and modernized approach to registered apprenticeship with more clearly defined roles and responsibilities, more points of entry, and improved accessibility for employers to join or register programs and for job seekers to become apprentices in those programs.

Through this rulemaking, the Department sought to strengthen the National Apprenticeship System and balance the needs of all apprenticeship stakeholders. The Department engaged in stakeholder outreach prior to the development of the proposed rule. The Department believes that commenters have raised some ideas and concepts—particularly regarding the impact and value of the proposed quality enhancements, proposed SAA governance provisions, and the registered CTE apprenticeship proposal—that would benefit from more outreach and dialogue with interested parties and the regulated community before it develops a new regulatory proposal updating the governing regulations for the National Apprenticeship System and registered apprenticeship programs. Therefore, the Department is withdrawing the proposed rule.

Conclusion

By withdrawing the proposed rule, the Department is eliminating the pending nature of this rulemaking. The Department intends to engage with all interested parties to discuss and consider future enhancements and impacts for the quality and expansion of registered apprenticeship and the roles and responsibilities of stakeholders in the National Apprenticeship System. If the Department decides to revise parts 29 and 30 at a later date, it will issue a new NPRM in the Federal Register.

Accordingly, the NPRM published in the Federal Register on January 17, 2024, at 89 FR 3118 is withdrawn.

José Javier Rodríguez,
Assistant Secretary for Employment and Training, Labor.

[FR Doc. 2024-31078 Filed 12-26-24; 8:45 am]

BILLING CODE 4510-FR-P